DEPARTMENT OF HEALTH AND HUMAN SERVICES

Administration for Children and Families

[CFDA Number: 93.612]

Proposed Adoption of Administration for Native Americans Program Policies and Procedures

AGENCY: Administration for Native Americans, ACF, HHS.

ACTION: Notice for public comment.

SUMMARY: The Administration for Native Americans (ANA) invites public comment pursuant to Section 814 of the Native American Programs Act of 1974 (NAPA), as amended, which requires ANA to provide members of the public with the opportunity to comment on proposed changes in interpretive rules, general statements of policy, and rules of agency procedure or practice that affect programs, projects, and activities authorized under the NAPA, and to give notice of the final adoption of such changes at least 30 days before the changes become effective. In accordance with notice requirements of NAPA, ANA herein describes its proposal to fund projects, beginning in Fiscal Year (FY) 2015, under Alaska-Specific SEDS.

DATES: Submit written or electronic comments on this Notice, on or before December 8, 2014.

ADDRESSES: Send comments in response to this notice via email to Lillian A. Sparks, Commissioner, Administration for Native Americans, at ANACommissioner@acf.hhs.gov. Comments will be available for inspection by members of the public at the Administration for Native Americans, 901 D Street SW., Washington, DC 20447.

FOR FURTHER INFORMATION CONTACT: Carmelia Strickland, Director, Division of Program Operations, ANA, (877) 922-9262.

SUPPLEMENTARY INFORMATION:

A. Funding Opportunity Announcements

Beginning in FY 2015, ANA proposes to re-establish publishing a separate Alaska-Specific SEDS Funding Opportunity Announcement (FOA) to target support and attention to core capacity building at the Alaska Native Village level. This Alaska-Specific SEDS FOA, Social and Economic Development Strategies for Alaska-SEDS-AK (HHS-2015-ACF-ANA-NK-0960) is intended to respond to the unique governmental structures in Alaska. Re-establishment of Alaska-Specific SEDS, is designed to provide targeted support for Village-specific projects to improve and strengthen the administrative and management capacity of Alaska Native Village governments, governments that are central to social and economic self-sufficiency in Alaska. From FYs 1984 through 2009, ANA funded Alaska-Specific SEDS projects under 45 CFR 1336.33 (a)(2) and (b)(4). In 2009, ANA stopped funding projects under Alaska-Specific SEDS and, from FYs 2010 through 2014, projects that had previously been funded under Alaska-Specific SEDS were funded under the general Social and Economic Development Strategies (SEDS) FOAs. This approach precluded implementation of 45 CFR 1336.33 (b)(4), a special provision applicable only to projects funded under Alaska-Specific SEDS, under which funding for core administrative capacity building projects at the Village government level is allowable, if the village does not have governing systems in place. Based on review of historical data covering the period from FYs 1984 through 2014, ANA has decided to re-establish Alaska-Specific SEDS in order to emphasize improving and strengthening the capacity of Alaska Native Village governments; focusing on the strengths present in Native Villages to generate evidence-based practices and sustainable approaches demonstrated to be effective at the Village level.

In an effort to meaningfully create opportunities to build and strengthen core governmental capacity in the areas of administration and project management at the Alaska Native Village level, ANA will make up to $1,000,000 available for Alaska-Specific SEDS funding in FY 2015 for new, community-based Village-level projects that will be available through competition under Social and Economic Development Strategies for Alaska-SEDS-AK (HHS-2015-ACF-ANA-NK-0960).

All language in the standing FOA, Social and Economic Development Strategies—SEDS (HHS-2014-ACF-ANA-NA-0776) available at http://www.acf.hhs.gov/grants/open/foa/index.cfm?switch=foa&fon=HHS-2014-ACF-ANA-NA-0776, will apply to the Alaska-Specific SEDS FOA, Social and Economic Development Strategies for Alaska-SEDS-AK (HHS-2015-ACF-ANA-NK-0960), except as follows:

B. Alaska-Specific SEDS Program Areas of Interest

ANA has identified the following program areas of interest for the Alaska-Specific SEDS FOA, however funding is not restricted to those listed below:

(a) Governance: Governance is defined as increasing the ability of tribal and Alaska Native Village governments to exercise local control and decision-making, and to develop and enforce laws, regulations, codes, and policies that reflect and promote the interests of community members. ANA recognizes the structure of governance that controls Native lands and communities in Alaska are more complex than in the lower 48 states. With some exceptions, most tribes in the lower 48 states escape the complicated jurisdictional and administrative situation that prevails in rural Alaska, where powers over lands, other resources, and relevant governmental programs are fragmented and widely dispersed among tribes, corporations, municipalities, governmental agencies, and other bodies. Examples of Alaska-Specific program areas of interest are:

• Administrative and program management capacity building—Planning and financial management capacity building to strengthen effective and accountable planning and management of Village-level government operations.

• Governmental administration—Improving Village-level capacity related to regulatory, judicial, and administrative infrastructure, including clarifying jurisdiction, developing or amending codes and procedures, enforcing contracts and property rights, and addressing family and child welfare issues.

• Comprehensive strategies—Developing Village-level strategies to assess and address the needs of children, youth, and community members.

• Emergency Preparedness/Disaster Recovery/Disaster Preparedness—Planning, analysis, and mitigation efforts to ensure needed services to better communicate and coordinate preparedness, response, and recovery efforts.

• Adaptation and mitigation of impacts of climate change—Assessment, planning, and implementation of efforts to adapt to climate change and to effectively respond to its impacts at the Village level, including efforts to address the effects of climate change on local fisheries and fresh water supplies, effects that increase the risk of flooding and wildfires, assessment and planning for relocation, and mitigation of impacts of erosion and permafrost melt.

• Technology infrastructure—Establishing and implementing Village-level systems to address internet connectivity and broadband planning as well as technology upgrades at the Village level.

(b) Economic Development: Projects that support the creation of sustainable local economies and promote self-sufficiency. Examples of Alaska-Specific program areas of interest are:

• Economic stability—Conducting the necessary planning and/or research to support achievement of long-range economic development goals at the Village level. Examples may include performing gap or value-added analyses to identify strengths and weaknesses in the local Village economy, strengthening Village capacity to deliver programs that promote economic development and security.

• Energy-related activities—Projects that promote traditional energy activities and practices that support conservation and help to mitigate the high costs of the purchase, transportation, and storage of fuel in Alaskan Villages, especially strategic energy plans that have been identified in tribally approved strategic energy plans. Examples include projects to implement renewable energy resources at the Village level such as bio-energy, geothermal, hydropower, solar, wind, or other methods appropriate to the geographical location.

• Infrastructure—Developing Village-level infrastructure (transportation systems, communication, distribution networks, financial institutions, etc.) to support the Village workforce and to make sustainable business activity possible.

• Subsistence—Enhancing subsistence and agricultural activities to retain or revitalize traditional food sources and practices at the Village-level.

(c) Social Development: Projects that develop and implement culturally appropriate strategies to meet the social service needs of Alaska Natives. Examples of Alaska-Specific program areas of interest are:

• Community living—Development and coordination of services to assist people with disabilities by helping them reach their maximum potential through increased independence, productivity, and integration within the Village community.

• Early childhood education and development—Supporting stable and high-quality, culturally responsive early childhood programs, creating early childhood education and development jobs, and improving Village level planning and coordination of early childhood education and development programs.

• Youth development—Improving the well-being of youth through life skills training at the Village level, workforce development, mentoring programs, substance abuse programs, and preventing suicides and juvenile crime.

• Community Health—Promoting improved access to health care and quality of care through coordinated Village and regional approaches, expanding access to healthy foods available in Native Villages, and supporting environmental health.

• Arts and culture—Developing or enhancing activities, at the Village level that promote, preserve, or restore Native Village culture and arts.

• Rescue archaeology—Recovery of cultural material due to climate change such as exposure of cultural artifacts due to permafrost melting.

• Organizational Development—Increasing organizational capacity at the Village level to successfully implement mission and goals.

• Nutrition and Fitness—Promoting increased knowledge and participation in activities that promote healthy foods, active lifestyles, the reduction of obesity, and other healthy-living habits

• Strengthening Families—Incorporating culturally relevant strategies to strengthen families and promote family preservation, responsible parenting, and healthy relationship skills; and to foster the well-being of children residing in Villages

• Responsible Fatherhood—Supporting responsible fatherhood through activities such as counseling, mentoring, marriage education, enhancing relationship skills, parenting, and activities to foster economic stability

• Suicide Prevention—Promoting safety, resilience, and protective factors necessary to foster mental health and reduce incidences of suicide and suicidal ideation

• Human Trafficking—Development of Village-level assessments and strategies to address human trafficking, including efforts to bring awareness of human trafficking to the public, development of prevention strategies to address the needs of victims, and establishment of collaborative partnerships including those that train public safety officials to recognize traffickers and their victims.

C. Eligible Applicants

Applicants eligible under the Alaska-Specific SEDS FOA are those listed in 45 CFR 1336.33(a)(2): that is, “(i) Federally recognized Indian tribes in Alaska; (ii) Alaska Native villages as defined in the Alaska Native Claims Settlement Act (ANSCA) and/or non-profit village consortia; (iii) Incorporated nonprofit Alaska Native multi-purpose community-based organizations; (iv) Nonprofit Alaska Native Regional Corporations/Associations in Alaska with village specific projects; and (v) Nonprofit Native organizations in Alaska with village specific projects.” As this listing already appears in our regulations we are not seeking comment on this aspect of the Alaska-Specific SEDS Projects.

Statutory Authority: This notice for public comment is required by Section 814 of the Native American Programs Act of 1974 (NAPA), as amended.

Kimberly Romine,
Deputy Commissioner, Administration for Native American.

[FR Doc. 2014-26426 Filed 11-5-14; 8:45 am]

BILLING CODE 4184-34-P